DEPARTMENT OF ENERGY

Federal Energy Regulatory Commission

[Docket No. CP16-38-000; PF15-21-000]

Columbia Gas Transmission, LLC; Notice of Schedule For Environmental Review of the WB XPress Project

On December 30, 2015, Columbia Gas Transmission, LLC (Columbia) filed an application in Docket No. CP16-38-000 requesting a Certificate of Public Convenience and Necessity pursuant to Section 7(c) of the Natural Gas Act to construct and operate certain natural gas pipeline facilities. The proposed project is known as the WB XPress Project (Project), and would expand the capacity of Columbia's existing natural gas pipeline system by 1.3 million dekatherms per day and provide bi-directional transportation service in order to meet growing market demands.

On January 14, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 24, 2017

90-day Federal Authorization Decision Deadline—June 22, 2017

If a schedule change becomes necessary, additional notice will be provided so that the relevant agencies are kept informed of the Project's progress.

Project Description

The Project would involve the replacement of 26.2 miles of replacement pipeline and 3.1 miles of new pipeline composed of varying diameters, two new compressor stations (one gas and one electric), expansions and modifications at seven existing gas compressor stations, and other minor aboveground facilities in West Virginia and Virginia.

Background

On July 22, 2015, the Commission issued a Notice of Intent to Prepare an Environmental Assessment for the Proposed WB XPress Project and Request for Comments on Environmental Issues (NOI). The NOI was issued during the pre-filing review of the Project in Docket No. PF15-21-000 and was sent to affected landowners; federal, state, and local government agencies; elected officials; environmental and public interest groups; Native American tribes; other interested parties; and local libraries and newspapers. In response to the NOI, the Commission received comments from Virginia and West Virginia state agencies; Fairfax County, and five landowners. After the NOI period closed, we received additional comments from the U.S. Environmental Protection Agency (Region 3), U.S. Forest Service, West Virginia Department of Natural Resources, Town of Strasburg, Virginia, and organizations such as the Dulles Regional Chamber of Commerce, the Southern Environmental Law Center, West Virginia Oil and Gas Association, Virginia Run Community Association, Sierra Club et al., Shenandoah Valley Network et al., Oil Change International et al., and 26 interested individuals. The primary issues raised included the need for the project; impacts on soils, karst geology, groundwater, waterbodies, wetlands, sensitive and listed species, forests, sensitive National Forest Service lands, air quality, climate change; and cumulative and indirect impacts. Alternatives, public safety, general support for the project, and the need for a programmatic environmental impact statement (EIS) were also raised.

The U.S. Forest Service, U.S. Army Corps of Engineers, U.S. Fish and Wildlife Service, West Virginia Department of Environmental Protection, and West Virginia Department of Natural Resources are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-38), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 9, 2016.
Kimberly D. Bose,
Secretary.

[FR Doc. 2016-30206 Filed 12-15-16; 8:45 am]

BILLING CODE 6717-01-P